DEPARTMENT OF VETERANS AFFAIRS

[OMB Control No. 2900-NEW]

Proposed Information Collection (Center for Verification and Evaluation [CVE] Verification Program) Activity: Comment Request

AGENCY: The Department of Veterans Affairs (VA) Office of Small and Disadvantaged Business Utilization (OSDBU).

ACTION: Notice.

SUMMARY: VA OSDBU, is announcing an opportunity for public comment on the proposed collection of certain information by the agency. Under the Paperwork Reduction Act (PRA) of 1995, Federal agencies are required to publish notice in the Federal Register concerning each proposed new collection of information, including each extension of a currently approved collection and allow 60 days for public comment in response to the notice. This notice solicits comments on information needed to (1) determine the adequacy of the CVE pre-verification process, (2) determine the efficiency of the verification process through its determination stage, (3) identify pitfalls in the verification program through participants who decided not to go through the process again.

DATES: Written comments and recommendations on the proposed collection of information should be received on or before October 27, 2014.

ADDRESSES: Submit written comments on the collection of information through Federal Docket Management System (FDMS) at www.Regulations.gov or to Milagros Ortiz, OSDBU, 00SB, or email to: milagros.ortiz@va.gov. Please refer to “OMB Control No. 2900-NEW (CVE Verification Program)” in any correspondence. During the comment period, comments may be viewed online through FDMS.

FOR FURTHER INFORMATION CONTACT: Milagros Ortiz at (202) 461-4279 or Fax (202) 461-4301.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OMB invites comments on: (1) Whether the proposed collection of information is necessary for the proper performance of OMB's functions, including whether the information will have practical utility; (2) the accuracy of OMB's estimate of the burden of the proposed collection of information; (3) ways to enhance the quality, utility, and clarity of the information to be collected; and (4) ways to minimize the burden of the collection of information on respondents, including through the use of automated collection techniques or the use of other forms of information technology.

Title: CVE Verification Program.

OMB Control Number: 2900-NEW.

Type of Review: New collection.

Abstract: The Office of Small and Disadvantaged Business Utilization (OSDBU) CVE is required to measure the effectiveness of different stages of the afore-mentioned verification process and how it fulfills Veterans' needs. The stages to be measured are the pre-application, post-determination, and exit. To collect this processing information, CVE will solicit voluntary opinions of verification applicants. The results will be used to improve different areas of this program.

Affected Public: Service-disabled Veteran-owned small business (SDVOSB) owners and Veteran-owned small business (VOSB) owners that have gone through the verification process (pre-application, post-determination, or exit stages).

Estimated Annual Burden: 150 hours.

Estimated Average Burden per Respondent: 3 minutes.

Frequency of Response: Every other year (the verification status lasts for 2 years).

Estimated Number of Respondents: 250 per month (3,000 per year).

Dated: August 22, 2014.
By direction of the Secretary.
Crystal Rennie,
Department Clearance Officer, Department of Veterans Affairs.

[FR Doc. 2014-20411 Filed 8-27-14; 8:45 am]

BILLING CODE 8320-01-P